DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Daniel Lee at 301-761-6327 or daniel.lee5@nih.gov. Licensing information may be obtained by communicating with the Technology Transfer and Intellectual Property Office, National Institute of Allergy and Infectious Diseases, 5601 Fishers Lane, Rockville, MD 20852; tel. 301-496-2644. A signed Confidential Disclosure Agreement will be required to receive copies of unpublished information related to the invention.

SUPPLEMENTARY INFORMATION: Technology description follows:

DeePlexing—Extending Imaging Multiplexity Using Machine Learning

Description of Technology: Spatial proteomics and transcriptomics are fast-emerging fields with the potential to revolutionize various branches of biology. In the last five years, various multiplex immunofluorescence and immunohistochemistry imaging methods have been developed to stain 5-60 different protein markers in a given tissue. Nonetheless, most of these techniques are iterative and can image a maximum of 3-8 markers in a single cycle, resulting in processing time of several hours to days.

Scientists at National Institute of Allergy and Infectious Diseases (NIAID) and National Cancer Institute (NCI) have developed a new method—DeePlexing—that uses a deep learning algorithm to dramatically enhance the number of markers stained in a single imaging cycle. This is accomplished with no changes or upgrades to the imaging platform itself. In the DeePlexing method, multiple antibodies/probes are conjugated to the same fluorophores and later deconvolved computationally to retrieve the multichannel signal with high accuracy. In digital spatial profiling, DeePlexing enables the user to detect seven different protein markers in a single cycle using only three fluorophores and even quadruple the number of markers in a single round without compromising the quality of RNA and protein in the sample. For multiplex protein profiling, DeePlexing can potentially stain for up to 255 different protein markets with eight fluorophores and deconvolve the signal for each of the 255 markers computationally.

This technology is available for licensing for commercial development in accordance with 35 U.S.C. 209 and 37 CFR part 404.

Potential Commercial Applications:

• Imaging platforms in spatial transcriptomics

• Multiplex protein spatial imaging

Competitive Advantages:

• Enhances the number of markers stained in a single imaging cycle

• Achieves this marker detection increase without compromising RNA or protein quality when that is part of the analytical pipeline

• Reduces the required processing time for multiplex imaging platforms

• Inexpensive and replicable

Development Stage:

• Prototype

Inventors: Ronald N. Germain (NIAID), Spencer M. Grant (NIAID), Nishant Thakur (NIAID), Chen Zhao (NCI), and Abigail J. Wong-Rolle (NCI).

Intellectual Property: HHS Reference No. E-202-2021-0; Software Tool.

Licensing Contact: To license this technology, please contact Daniel Lee at 301-761-6327 or daniel.lee5@nih.gov, and reference E-202-2021-0.

Dated: February 9, 2024.
Surekha Vathyam,
Deputy Director,Technology Transfer and Intellectual Property Office,National Institute of Allergy and Infectious Diseases.

[FR Doc. 2024-03120 Filed 2-14-24; 8:45 am]

BILLING CODE 4140-01-P